DEPARTMENT OF VETERANS AFFAIRS

Capital Asset Realignment for Enhanced Services (CARES) Commission; Notice of Meeting

The Department of Veterans Affairs (VA) gives notice under Public Law 92-463 (Federal Advisory Committee Act) that the Capital Asset Realignment for Enhanced Services (CARES) Commission will hold a meeting on Tuesday, October 7, 2003, in Room 418 of the Russell Senate Office Building, Washington, DC 20510. The meeting will begin at 8:30 a.m. and end at 5 p.m. The meeting is open to the public.

The purpose of the Commission is to conduct an external assessment of VA's capital asset needs and to assure that stakeholder and beneficiary concerns are fully addressed. The Commission is reviewing recommendations in VA Under Secretary for Health's Draft National CARES Plan. The Commission will also consider recommendations submitted by veterans service organizations, individual veterans, Congress, medical school affiliates, VA employees, local government entities, community groups and others. Following its assessment, the Commission will make specific recommendations to the Secretary of Veterans Affairs regarding the realignment and allocation of capital assets necessary to meet the demands for and enhance veterans health care services over the next 20 years.

The October 7, 2003, meeting will be the first national meeting of the Commission since the Draft National CARES Plan was issued where parties from outside VA will address the Commission. As a final step in the Commission's information gathering process, national leaders are being asked to provide a national perspective on the CARES process and the Draft National CARES Plan to the entire Commission. Leadership from both the Senate and House of Representatives Veterans Affairs Committees and the Appropriations Subcommittees on VA, HUD and Independent Agencies may appear. Leadership from veterans service organizations, the Department of Defense, national VA employee organizations and national medical and nursing affiliate organizations will also be invited to make presentations to the Commission.

No time will be allocated at this meeting for receiving oral presentations from the public. However, interested persons may either attend or file statements with the Commission., Written statements may be filed either before the meeting or within 10 days after the meeting and addressed to: CARES Commission (OOCARES), Department of Veterans Affairs, 810 Vermont Avenue, NW., Washington, DC 20420. Additionally, comments may be submitted on the Web site at http://www.carescommission@va.gov, or via facsimile at (202) 501-2196. Any member of the public wishing additional information should contact Mr. Richard E. Larson, Executive Director, CARES Commission, at (202) 501-2000.

Dated: September 15, 2003.
By Direction of the Secretary.
E. Philip Riggin,
Committee Management Officer.

[FR Doc. 03-24213 Filed 9-24-03; 8:45 am]

BILLING CODE 8320-01-M